DEPARTMENT OF HEALTH AND HUMAN SERVICES

Assistant Secretary for Planning & Evaluation; Medicaid Program; Meeting of the Medicaid Commission—October 26-27, 2005

AGENCY: Assistant Secretary for Planning & Evaluation (ASPE), HHS.

ACTION: Notice of meeting.

SUMMARY: This notice announces a public meeting of the Medicaid Commission. Notice of this meeting is given under the Federal Advisory Committee Act (5 U.S.C. App. 2, section 10(a)(1) and (a)(2)). The Medicaid Commission will advise the Secretary on ways to modernize the Medicaid program so that it can provide high-quality health care to its beneficiaries in a financially sustainable way.

DATES: The Meeting: October 26-27, 2005. The meeting will begin at 9 a.m. each day.

Special Accommodations: Persons attending the meeting who are hearing or visually impaired, or have a condition that requires special assistance or accommodations, are asked to notify the Executive Secretary by October 18, 2005 (see FOR FURTHER INFORMATION CONTACT).

ADDRESSES:

The Meeting: The meeting will be held at the following address: Holiday Inn on The Hill, 415 New Jersey Avenue, NW., Washington, DC 20001, United States, telephone: 1 (202) 638-1616, fax: 1 (202) 638-0707.

Web site: You may access up-to-date information on this meeting at http://www.cms.hhs.gov/faca/mc/default.asp.

FOR FURTHER INFORMATION CONTACT: Nancy Barnes, Executive Secretary, (202) 205-9164.

SUPPLEMENTARY INFORMATION: On May 24, 2005, we published a notice (70 FR 29765) announcing the Medicaid Commission and requesting nominations for individuals to serve on the Medicaid Commission. This notice announces a public meeting of the Medicaid Commission.

Topics of the Meeting: The Commission will discuss options for making longer-term recommendations on the future of the Medicaid program that ensure long-term sustainability. Issues to be addressed may include, but are not limited to: Eligibility, benefit design, and delivery; expanding the number of people covered with quality care while recognizing budget constraints; long term care; quality of care, choice, and beneficiary satisfaction; and program administration. The Commission may discuss the need to divide into sub-groups for the purpose of focusing on particular issues within this broad subject, including a discussion of which members would serve on which sub-group.

Procedure and Agenda: This meeting is open to the public. There will be a public comment period at the meeting. The Commission may limit the number and duration of oral presentations to the time available. We will request that you declare at the meeting whether or not you have any financial involvement related to any services being discussed.

After the presentations and public comment period, the Commission will deliberate openly. Interested persons may observe the deliberations, but the Commission will not hear further comments during this time except at the request of the Chairperson. The Commission will also allow an open public session for any attendee to address issues specific to the topic.

Authority: 5 U.S.C. App. 2, section 10(a)(1) and (a)(2).

Dated: October 3, 2005.
Michael J. O'Grady,
Assistant Secretary for Planning and Evaluation, Department of Health and Human Services.

[FR Doc. 05-20189 Filed 10-6-06; 8:45 am]

BILLING CODE 4150-05-P